DEPARTMENT OF TRANSPORTATION

Federal Aviation Administration

14 CFR Part 39

[Docket No. FAA-2017-1100; Product Identifier 2017-NM-077-AD]

RIN 2120-AA64

Airworthiness Directives; Airbus Airplanes

AGENCY: Federal Aviation Administration (FAA), DOT.

ACTION: Notice of proposed rulemaking (NPRM).

SUMMARY: We propose to supersede Airworthiness Directive (AD) 2015-15-13, which applies to certain Airbus Model A319 series airplanes; Model A320-211, -212, -214, -231, -232, and -233 airplanes; and Model A321-111, -112, -131, -211, -212, -213, -231, and -232 airplanes. AD 2015-15-13 requires modification of the potable water service panel and waste water service panel, including doing applicable related investigative and corrective actions. Since we issued AD 2015-15-13, further investigations linked to widespread fatigue damage (WFD) analysis highlighted that, to meet the WFD requirements, it is necessary that the affected modification not be accomplished before reaching a certain threshold. This proposed AD would require modification of the waste water and potable water service panels with new compliance times. This proposed AD would also remove certain airplanes from the applicability and add Model A320-216 airplanes to the applicability. We are proposing this AD to address the unsafe condition on these products.

DATES: We must receive comments on this proposed AD by January 29, 2018.

ADDRESSES: You may send comments, using the procedures found in 14 CFR 11.43 and 11.45, by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE, Washington, DC 20590.

• Hand Delivery: Deliver to Mail address above between 9 a.m. and 5 p.m., Monday through Friday, except Federal holidays.

For service information identified in this NPRM, contact Airbus, Airworthiness Office—EIAS, 1 Rond Point Maurice Bellonte, 31707 Blagnac Cedex, France; telephone +33 5 61 93 36 96; fax +33 5 61 93 44 51; email account.airworth-eas@airbus.com; internet http://www.airbus.com. You may view this referenced service information at the FAA, Transport Standards Branch, 1601 Lind Avenue SW, Renton, WA. For information on the availability of this material at the FAA, call 425-227-1221.

Examining the AD Docket

You may examine the AD docket on the internet at http://www.regulations.gov by searching for and locating Docket No. FAA-2017-1100; or in person at the Docket Management Facility between 9 a.m. and 5 p.m., Monday through Friday, except Federal holidays. The AD docket contains this proposed AD, the regulatory evaluation, any comments received, and other information. The street address for the Docket Operations office (telephone 800-647-5527) is in the ADDRESSES section. Comments will be available in the AD docket shortly after receipt.

FOR FURTHER INFORMATION CONTACT: Sanjay Ralhan, Aerospace Engineer, International Section, Transport Standards Branch, FAA, 1601 Lind Avenue SW, Renton, WA 98057-3356; telephone 425-227-1405; fax 425-227-1149.

SUPPLEMENTARY INFORMATION:

Comments Invited

We invite you to send any written relevant data, views, or arguments about this proposal. Send your comments to an address listed under the ADDRESSES section. Include “Docket No. FAA-2017-1100; Product Identifier 2017-NM-077-AD” at the beginning of your comments. We specifically invite comments on the overall regulatory, economic, environmental, and energy aspects of this proposed AD. We will consider all comments received by the closing date and may amend this proposed AD based on those comments.

We will post all comments we receive, without change, to http://www.regulations.gov, including any personal information you provide. We will also post a report summarizing each substantive verbal contact we receive about this proposed AD.

Discussion

Fatigue damage can occur locally, in small areas or structural design details, or globally, in widespread areas. Multiple-site damage is widespread damage that occurs in a large structural element such as a single rivet line of a lap splice joining two large skin panels. Widespread damage can also occur in multiple elements such as adjacent frames or stringers. Multiple-site damage and multiple-element damage cracks are typically too small initially to be reliably detected with normal inspection methods. Without intervention, these cracks will grow, and eventually compromise the structural integrity of the airplane. This condition is known as WFD. It is associated with general degradation of large areas of structure with similar structural details and stress levels. As an airplane ages, WFD will likely occur, and will certainly occur if the airplane is operated long enough without any intervention.

The FAA's WFD final rule (75 FR 69746, November 15, 2010) became effective on January 14, 2011. The WFD rule requires certain actions to prevent structural failure due to WFD throughout the operational life of certain existing transport category airplanes and all of these airplanes that will be certificated in the future. For existing and future airplanes subject to the WFD rule, the rule requires that DAHs establish a limit of validity (LOV) of the engineering data that support the structural maintenance program. Operators affected by the WFD rule may not fly an airplane beyond its LOV, unless an extended LOV is approved.

The WFD rule (75 FR 69746, November 15, 2010) does not require identifying and developing maintenance actions if the DAHs can show that such actions are not necessary to prevent WFD before the airplane reaches the LOV. Many LOVs, however, do depend on accomplishment of future maintenance actions. As stated in the WFD rule, any maintenance actions necessary to reach the LOV will be mandated by airworthiness directives through separate rulemaking actions.

In the context of WFD, this action is necessary to enable DAHs to propose LOVs that allow operators the longest operational lives for their airplanes, and still ensure that WFD will not occur. This approach allows for an implementation strategy that provides flexibility to DAHs in determining the timing of service information development (with FAA approval), while providing operators with certainty regarding the LOV applicable to their airplanes.

We issued AD 2015-15-13, Amendment 39-18223 (80 FR 45857, August 3, 2015) (“AD 2015-15-13”), for certain Airbus Model A319 series airplanes; Model A320-211, -212, -214, -231,-232, and -233 airplanes; and Model A321 series airplanes. AD 2015-15-13 was prompted by reports of cracks that could be initiated at the waste water service panel area and the potable water service panel area. AD 2015-15-13 requires modification of the potable water service panel and waste water service panel, including doing applicable related investigative and corrective actions. We issued AD 2015-15-13 to prevent any cracking at the waste water service panel area and the potable water service panel area, which could affect the structural integrity of the airplane.

Since we issued AD 2015-15-13, further investigations linked to WFD analysis highlighted that, to meet the WFD requirements, it is necessary that the affected modification is not accomplished before reaching a certain threshold by imposing a “window of embodiment.”

The European Aviation Safety Agency (EASA), which is the Technical Agent for the Member States of the European Union, has issued EASA Airworthiness Directive 2017-0098, dated June 7, 2017 (referred to after this as the Mandatory Continuing Airworthiness Information, or “the MCAI”), to correct an unsafe condition for certain Airbus Model A319 series airplanes; Airbus Model A320-211, -212, -214, -216, -231, -232, and -233 airplanes; and Airbus Model A321-111, -112, -131, -211, -212, -213, -231, and -232 airplanes. The MCAI states:

During the full scale fatigue test on A320-200, it was noticed that, due to fatigue, cracks could initiate at the potable water and waste water service panel areas.

This condition, if not detected and corrected, could affect the structural integrity of the aeroplane.

Prompted by these findings, Airworthiness Limitation Section (ALS) Part 2 tasks were introduced for the affected aeroplanes. Since those actions were taken, Airbus developed production mod 160055 and mod 160056 to embody reinforcements (cold working on certain rivet rows) of the potable water and waste water service panels, and published associated Airbus Service Bulletin (SB) A320-53-1272 and Airbus SB A320-53-1267 for in-service embodiment. Complementary design office studies highlighted that the “Sharklets” installation on certain aeroplanes has a significant impact on the aeroplane structure (particularly, A319 and A320 post-mod 160001, A320 post-SB A320-57-1193 (mod 160080), and A321 post-mod 160021), leading to different compliance times, depending on aeroplane configuration.

Consequently, EASA issued AD 2014-0081 [which corresponds to FAA AD 2015-15-13] to require reinforcement of the potable water and waste water service panels. Accomplishment of these modifications cancelled the need for the related ALS Part 2 Tasks.

Since that AD was issued, further investigations linked to the Widespread Fatigue Damage (WFD) analysis highlighted that, to meet the WFD requirements, it is necessary that the affected modification is not accomplished before reaching a certain threshold, by imposing a so-called “window of embodiment”. Consequently, Airbus revised SB A320-53-1272 (now at revision (Rev.) 04) and SB A320-53-1267 (now at Rev. 05).

For the reasons described above, this [EASA] AD retains the requirements of EASA AD 2014-0081, which is superseded, and introduces additional compliance times for those actions.

This proposed AD would also remove Model A319 series airplanes on which modification 28162, 28238, and 28342 have been embodied (“Corporate Jet” modifications) from the applicability because production modifications mitigated the risk associated with the unsafe condition. This proposed AD would also add Model A320-216 airplanes to the applicability because those airplanes are affected by the identified unsafe condition.

You may examine the MCAI in the AD docket on the internet at http://www.regulations.gov by searching for and locating Docket No. FAA-2017-1100.

Related Service Information Under 1 CFR Part 51

Airbus has issued Service Bulletin A320-53-1267, Revision 05, dated November 29, 2016, which describes procedures for modifying the waste water service panel. Airbus has also issued Service Bulletin A320-53-1272, Revision 04, dated November 29, 2016, which describes procedures for modifying the potable water service panel. Both modifications include a check of the diameter of the holes of removed fasteners, a related investigative action (rotating probe inspection for cracking on the holes of the removed fasteners) and a corrective action (repair). This service information is reasonably available because the interested parties have access to it through their normal course of business or by the means identified in the ADDRESSES section.

FAA's Determination and Requirements of This Proposed AD

This product has been approved by the aviation authority of another country, and is approved for operation in the United States. Pursuant to our bilateral agreement with the State of Design Authority, we have been notified of the unsafe condition described in the MCAI and service information referenced above. We are proposing this AD because we evaluated all pertinent information and determined an unsafe condition exists and is likely to exist or develop on other products of the same type design.

Explanation of Compliance Time

The compliance time for the replacement specified in this proposed AD for addressing WFD was established to ensure that discrepant structure is replaced before WFD develops in airplanes. Standard inspection techniques cannot be relied on to detect WFD before it becomes a hazard to flight. We will not grant any extensions of the compliance time to complete any AD-mandated service bulletin related to WFD without extensive new data that would substantiate and clearly warrant such an extension.

Costs of Compliance

We estimate that this proposed AD affects 851 airplanes of U.S. registry.

We also estimate that it would take about 27 work-hours per product to comply with the basic requirements of this proposed AD. The average labor rate is $85 per work-hour. Required parts would cost about $700 per product. Based on these figures, we estimate the cost of this proposed AD on U.S. operators to be $2,548,745, or $2,995 per product.

We have received no definitive data that would enable us to provide cost estimates for the on-condition actions specified in this proposed AD.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

This AD is issued in accordance with authority delegated by the Executive Director, Aircraft Certification Service, as authorized by FAA Order 8000.51C. In accordance with that order, issuance of ADs is normally a function of the Compliance and Airworthiness Division, but during this transition period, the Executive Director has delegated the authority to issue ADs applicable to transport category airplanes to the Director of the System Oversight Division.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing Airworthiness Directive (AD) 2015-15-13, Amendment 39-18223 (80 FR 45857, August 3, 2015), and adding the following new AD:

Airbus: Docket No. FAA-2017-1100; Product Identifier 2017-NM-077-AD.

(a) Comments Due Date

We must receive comments by January 29, 2018.

(b) Affected ADs

This AD replaces AD 2015-15-13, Amendment 39-18223 (80 FR 45857, August 3, 2015) (“AD 2015-15-13”).

(c) Applicability

This AD applies to the airplanes identified in paragraphs (c)(1), (c)(2), and (c)(3) of this AD, certificated in any category, except for those airplanes on which Airbus modification 160055 or modification 160056 has been embodied in production, and except for Model A319 series airplanes on which modification 28162, 28238, and 28342 have been embodied (“Corporate Jet”).

(1) Airbus Model A319-111, -112, -113, -114, -115, -131, -132, and -133 airplanes.

(2) Airbus Model A320-211, -212, -214, -216, -231, -232, and -233 airplanes.

(3) Airbus Model A321-111, -112, -131, -211, -212, -213, -231, and -232 airplanes.

(d) Subject

Air Transport Association (ATA) of America Code 53, Fuselage.

(e) Reason

This AD was prompted by an evaluation by the design approval holder (DAH) indicating that the potable water and waste water service panel areas are subject to widespread fatigue damage (WFD). We are issuing this AD to prevent cracking of the potable water and waste water service panel areas, which could result in reduced structural integrity of the airplane.

(f) Compliance

Comply with this AD within the compliance times specified, unless already done.

(g) Modification of the Potable Water Service Panel

(1) Within the compliance times specified in Table 1 to paragraphs (g)(1) and (i) of this AD, as applicable, modify the potable water service panel, including doing a check of the diameter of the holes of removed fasteners, and do all applicable related investigative and corrective actions, in accordance with the Accomplishment Instructions of Airbus Service Bulletin A320-53-1272, Revision 04, dated November 29, 2016, except as required by paragraph (g)(2) of this AD. Do all applicable related investigative and corrective actions before further flight.

Table 1 to Paragraphs (g)(1) and (i) of This AD—Compliance Times for the Portable Water Service Panel Reinforcement
Affected airplanes * | Compliance time minimum ** | Compliance time maximum (before the accumulation of the specified total flight cycles since the airplane's first flight)
A319, pre-modification 160001 and pre-service bulletin A320-57-1193 | 33,100 total flight cycles | 48,500 total flight cycles.
A319, post-modification 160001 or post-service bulletin A320-57-1193 | None | 46,000 total flight cycles.
A320, pre-modification 160001 and pre-service bulletin A320-57-1193 | 25,100 total flight cycles | 54,200 total flight cycles.
A320, post-modification 160001 or post-service bulletin A320-57-1193 | None | 48,300 total flight cycles.
A321-100 | 25,100 total flight cycles | 60,000 total flight cycles.
A321-200 pre-modification 160021 | 22,100 total flight cycles | 60,000 total flight cycles.
A321-200 post-modification 160021 | None | 60,000 total flight cycles.
* A321-111, A321-112 and A321-131 airplanes are collectively referred to as “A321-100.” Similarly, A321-211, A321-212, A321-213, A321-231 and A321-232 airplanes are collectively referred to as “A321-200”.
** Not before accumulating the specified total flight cycles since the airplane's first flight.

(2) Where Airbus Service Bulletin A320-53-1272, Revision 04, dated November 29, 2016, specifies to contact Airbus for appropriate action, and specifies that action as “RC” (Required for Compliance): Before further flight, accomplish corrective actions in accordance with the procedures specified in paragraph (m)(2) of this AD.

(h) Modification of the Waste Water Service Panel

(1) Within the compliance times specified in Table 2 to paragraphs (h)(1) and (i) of this AD, as applicable, modify the waste water service panel, including doing a check of the diameter of the holes of removed fasteners, and do all applicable related investigative and corrective actions in accordance with the Accomplishment Instructions of Airbus Service Bulletin A320-53-1267, Revision 05, dated November 29, 2016, except as required by paragraph (h)(2) of this AD. Do all applicable related investigative and corrective actions before further flight.

Table 2 to Paragraphs (h)(1) and (i) of This AD—Compliance Times for the Waste Water Service Panel Reinforcement
Affected airplanes * | Compliance time minimum ** | Compliance time maximum
A319, pre-modification 160001 and pre-service bulletin A320-57-1193 | 28,600 total flight cycles | Before the accumulation of 44,400 total flight cycles since the airplane's first flight.
A319, post-modification 160001 or post-service bulletin A320-57-1193 | None | Before the accumulation of 43,600 total flight cycles since the airplane's first flight.
A320, pre-modification 160001 and pre-service bulletin A320-57-1193 | 35,800 total flight cycles | Before the accumulation of 46,000 total flight cycles since the airplane's first flight; or within 2,300 flight cycles since the last accomplishment of Airworthiness Limitation Section (ALS) Part 2 Task 534126-01-3 without exceeding 48,000 total flight cycles since the airplane's first flight; whichever occurs later.
A320, post-modification 160001 or post-service bulletin A320-57-1193 | 5,400 total flight cycles | Before the accumulation of 39,200 total flight cycles since the airplane's first flight.
A321-100 | 36,900 total flight cycles | Before the accumulation of 52,500 total flight cycles since the airplane's first flight.
A321-200 pre-modification 160021 | 35,700 total flight cycles | Before the accumulation of 53,500 total flight cycles since the airplane's first flight.
A321-200 post-modification 160021 | None | Before the accumulation of 51,200 total flight cycles since the airplane's first flight.
* A321-111, A321-112 and A321-131 airplanes are collectively referred to as “A321-100.” Similarly, A321-211, A321-212, A321-213, A321-231 and A321-232 airplanes are collectively referred to as “A321-200”.
** Not before accumulating the specified total flight cycles since the airplane's first flight.

(2) Where Airbus Service Bulletin A320-53-1267, Revision 05, dated November 29, 2016, specifies to contact Airbus for appropriate action, and specifies that action as “RC” (Required for Compliance): Before further flight, accomplish corrective actions in accordance with the procedures specified in paragraph (m)(2) of this AD.

(i) Corrective Action for Airplanes With Certain Modifications

For airplanes on which the modification, as required by paragraph (g) or (h) of this AD, as applicable, was accomplished before reaching the applicable minimum compliance time as defined in Table 1 to paragraphs (g)(1) and (i) of this AD or Table 2 to paragraphs (h)(1) and (i) of this AD: Before exceeding 60,000 flight cycles since the airplane's first flight, contact the Manager, International Section, Transport Standards Branch, FAA; or the European Aviation Safety Agency (EASA); or Airbus's EASA Design Organization Approval (DOA) for approved corrective action instructions and accomplish those instructions accordingly.

(j) Terminating Action for Airplanes on Which the Potable Water Service Panel Modification Is Done

Modification of an airplane as required by paragraph (g) of this AD terminates the requirement for accomplishing the ALS Part 2 task for that airplane as specified in Table 3 to paragraph (j) of this AD, as applicable.

Table 3 to Paragraph (j) of This AD—ALS Part 2 Task Terminated After Potable Water Service Panel Modification
Affected airplanes | ALS Part 2 task No.
A319, pre-modification 160001 and pre-service bulletin A320-57-1193 | 534125-01-2
A319, post-modification 160001 or post-service bulletin A320-57-1193 | 534125-01-5
A320, pre-modification 160001 and pre-service bulletin A320-57-1193 | 534125-01-3
A320, post-modification 160001 or post-service bulletin A320-57-1193 | 534125-01-6
A321 pre-modification 160021 | 534125-01-4
A321 post-modification 160021 | 534125-01-7

(k) Terminating Action for Airplanes on Which the Waste Water Service Panel Modification Is Done

Modification of an airplane as required by paragraph (h) of this AD terminates the requirement for accomplishing the ALS Part 2 task for that airplane as specified in Table 4 to paragraph (k) of this AD, as applicable.

Table 4 to Paragraph (k) of This AD—ALS Part 2 Task Terminated After Waste Water Service Panel Modification
Affected airplanes | ALS Part 2 task No.
A319, pre-modification 160001 and pre-service bulletin A320-57-1193 | 534126-01-2
A319, post-modification 160001 or post-service bulletin A320-57-1193 | 534126-01-5
A320, pre-modification 160001 and pre-service bulletin A320-57-1193 | 534126-01-3
A320, post-modification 160001 or post-service bulletin A320-57-1193 | 534126-01-6
A321 pre-modification 160021 | 534126-01-4
A321 post-modification 160021 | 534126-01-7

(l) Credit for Previous Actions

(1) This paragraph provides credit for actions required by paragraph (g) of this AD if those actions were performed before the effective date of this AD using the service information in paragraphs (l)(1)(i) through (l)(1)(iv) of this AD.

(i) Airbus Service Bulletin A320-53-1272, Revision 00, dated January 10, 2013, which is not incorporated by reference in this AD.

(ii) Airbus Service Bulletin A320-53-1272, Revision 01, dated August 6, 2013, which is not incorporated by reference in this AD.

(iii) Airbus Service Bulletin A320-53-1272, Revision 02, dated May 19, 2014, which was incorporated by reference in AD 2015-15-13.

(iv) Airbus Service Bulletin A320-53-1272, Revision 03, dated November 26, 2015, which is not incorporated by reference in this AD.

(2) This paragraph provides credit for actions required by paragraph (h) of this AD if those actions were performed before the effective date of this AD using the service information in paragraphs (l)(2)(i) through (l)(2)(v) of this AD.

(i) Airbus Service Bulletin A320-53-1267, Revision 00, dated June 24, 2013, which is not incorporated by reference in this AD.

(ii) Airbus Service Bulletin A320-53-1267, Revision 01, dated October 2, 2013, which is not incorporated by reference in this AD.

(iii) Airbus Service Bulletin A320-53-1267, Revision 02, dated May 19, 2014, which was incorporated by reference in AD 2015-15-13.

(iv) Airbus Service Bulletin A320-53-1267, Revision 03, dated November 26, 2015, which is not incorporated by reference in this AD.

(v) Airbus Service Bulletin A320-53-1267, Revision 04, dated February 1, 2016, which is not incorporated by reference in this AD.

(m) Other FAA AD Provisions

(1) Alternative Methods of Compliance (AMOCs): The Manager, International Section, Transport Standards Branch, FAA, has the authority to approve AMOCs for this AD, if requested using the procedures found in 14 CFR 39.19. In accordance with 14 CFR 39.19, send your request to your principal inspector or local Flight Standards District Office, as appropriate. If sending information directly to the International Section, send it to the attention of the person identified in paragraph (n)(2) of this AD. Information may be emailed to: 9-ANM-116-AMOC-REQUESTS@faa.gov. Before using any approved AMOC, notify your appropriate principal inspector, or lacking a principal inspector, the manager of the local flight standards district office/certificate holding district office.

(2) Contacting the Manufacturer: As of the effective date of this AD, for any requirement in this AD to obtain corrective actions from a manufacturer, the action must be accomplished using a method approved by the Manager, International Section, Transport Standards Branch, FAA; or the EASA; or Airbus's EASA DOA. If approved by the DOA, the approval must include the DOA-authorized signature.

(3) Required for Compliance (RC): Except as required by paragraphs (g)(2) and (h)(2) of this AD: If any service information contains procedures or tests that are identified as RC, those procedures and tests must be done to comply with this AD; any procedures or tests that are not identified as RC are recommended. Those procedures and tests that are not identified as RC may be deviated from using accepted methods in accordance with the operator's maintenance or inspection program without obtaining approval of an AMOC, provided the procedures and tests identified as RC can be done and the airplane can be put back in an airworthy condition. Any substitutions or changes to procedures or tests identified as RC require approval of an AMOC.

(n) Related Information

(1) Refer to Mandatory Continuing Airworthiness Information (MCAI) EASA Airworthiness Directive 2017-0098, dated June 7, 2017, for related information. This MCAI may be found in the AD docket on the internet at http://www.regulations.gov by searching for and locating Docket No. FAA-2017-1100.

(2) For more information about this AD, contact Sanjay Ralhan, Aerospace Engineer, International Section, Transport Standards Branch, FAA, 1601 Lind Avenue SW, Renton, WA 98057-3356; telephone 425-227-1405; fax 425-227-1149.

(3) For service information identified in this AD, contact Airbus, Airworthiness Office—EIAS, 1 Rond Point Maurice Bellonte, 31707 Blagnac Cedex, France; telephone +33 5 61 93 36 96; fax +33 5 61 93 44 51; email account.airworth-eas@airbus.com; Internet http://www.airbus.com. You may view this service information at the FAA, Transport Standards Branch, 1601 Lind Avenue SW, Renton, WA. For information on the availability of this material at the FAA, call 425-227-1221.

Issued in Renton, Washington, on November 29, 2017.
Jeffrey E. Duven,
Director, System Oversight Division, Aircraft Certification Service.

[FR Doc. 2017-26362 Filed 12-13-17; 8:45 am]

BILLING CODE 4910-13-P